DEPARTMENT OF THE INTERIOR

National Park Service

[NPS-WASO-NAGPRA-23159; PPWOCRADN0-PCU00RP14.R50000]

Notice of Intent To Repatriate Cultural Items: Robert S. Peabody Museum of Archaeology, Phillips Academy, Andover, MA

AGENCY: National Park Service, Interior.

ACTION: Notice.

SUMMARY: The Robert S. Peabody Museum of Archaeology, in consultation with the appropriate Indian tribes or Native Hawaiian organizations, has determined that the cultural items listed in this notice meet the definition of sacred objects. Lineal descendants or representatives of any Indian tribe or Native Hawaiian organization not identified in this notice that wish to claim these cultural items should submit a written request to the Robert S. Peabody Museum of Archaeology. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Robert S. Peabody Museum of Archaeology at the address in this notice by June 2, 2017.

ADDRESSES: Dr. Ryan J. Wheeler, Director, The Robert S. Peabody Museum of Archaeology, Phillips Academy, 180 Main Street, Andover, MA 01810, (978) 749-4494, email rwheeler@andover.edu.

SUPPLEMENTARY INFORMATION: Notice is here given in accordance with the Native American Graves Protection and Repatriation Act (NAGPRA), 25 U.S.C. 3005, of the intent to repatriate cultural items under the control of the Robert S. Peabody Museum of Archaeology, Andover, MA, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

About August 1909, seven items of cultural and spiritual significance were removed from the White Earth Reservation in Becker County, MN, by Warren K. Moorehead, Curator of the Robert S. Peabody Museum of Archaeology. The seven sacred objects are one owl feather war flag (144/18739) made by Ne-gah-ne-bin-ace in the mid-nineteenth century and presented to Moorehead by Me-shuck-ke-gee-shig and Mah-in-gonce; one beaded altar cloth (144/18737); one circular soapstone pipe and associated wooden stem (42293) that had been smoked by Way-ge-chaw-bow-e-quay; two beaded buckskin bags (144/18722 and 144/18721); and one pipe stem with pileated woodpecker skull and feathers (144/18729) and one associated inlaid stone pipe (97/7326) that was obtained from Kah-gondaush (also known as George Walters).

On an unknown date, two cultural items were removed from the White Earth Reservation in Becker County, MN, by Major John R. Howard, Bureau of Indian Affairs Superintendent at the White Earth Agency from 1908 to 1916, and given to Warren K. Moorehead. The two sacred objects are one large granite pipe and associated long wooden stem (object ID number 29661) that had been made and smoked by Bay-bah-daum-ay-aush in 1898; and one small effigy pipe (object ID number 29662) belonging to No-de-na-qua-um (also known as Temperance Chief).

In 1908, President Theodore Roosevelt appointed Warren K. Moorehead to the Board of Indian Commissioners. After his appointment, Moorehead learned from his colleagues at the Smithsonian Institution “of the dreadful situation on a dozen different reservations,” including the White Earth Reservation. He requested permission and funds to investigate, which were granted by Commissioner of Indian Affairs Francis Leupp. Moorehead spent time at the White Earth Reservation investigating various forms of land and other theft during a period of significant economic, cultural, and religious oppression. It was during this time that numerous objects of cultural and spiritual significance were removed from Anishinaabeg communities.

Consultations were held during a January 12-13, 2017, visit by officials from the White Earth Band of the Minnesota Chippewa Tribe who affirmed cultural affiliation to these nine sacred objects. In a letter dated February 14, 2017, the White Earth Band of the Minnesota Chippewa Tribe requested the return of the nine sacred objects due to their substantial cultural and religious significance.

Determinations Made by the Robert S. Peabody Museum of Archaeology

Officials of the Robert S. Peabody Museum of Archaeology have determined that:

• Pursuant to 25 U.S.C. 3001(3)(C), the nine cultural items described above are specific ceremonial objects needed by traditional Native American religious leaders for the practice of traditional Native American religions by their present-day adherents.

• Pursuant to 25 U.S.C. 3001(2), there is a relationship of shared group identity that can be reasonably traced between the nine sacred objects and the White Earth Band of the Minnesota Chippewa Tribe.

Additional Requestors and Disposition

Lineal descendants or representatives of any Indian tribe or Native Hawaiian organization not identified in this notice that wish to claim these cultural items should submit a written request with information in support of the claim to Dr. Ryan J. Wheeler, Director, The Robert S. Peabody Museum of Archaeology, Phillips Academy, 180 Main Street, Andover, MA 01810, (978) 749-4494, email rwheeler@andover.edu, by June 2, 2017. After that date, if no additional claimants have come forward, transfer of control of the sacred object to the White Earth Band of the Minnesota Chippewa Tribe may proceed.

The Robert S. Peabody Museum of Archaeology is responsible for notifying the White Earth Band of the Minnesota Chippewa Tribe that this notice has been published.

Dated: March 27, 2017.
Melanie O'Brien,
Manager, National NAGPRA Program.

[FR Doc. 2017-08879 Filed 5-2-17; 8:45 am]

BILLING CODE 4312-52-P